DEPARTMENT OF ENERGY

Bonneville Power Administration

Agency Information Collection Activities: Proposed Collection; Comment Request; Badge Replacement Request Form

AGENCY: Bonneville Power Administration (BPA), Department of Energy.

ACTION: Proposed information collection and request for comments.

SUMMARY: BPA is seeking comments on a proposed submission to the Office of Management and Budget (OMB) for clearance of a collection of information under the Paperwork Reduction Act of 1995. BPA proposes to collect information on lost, stolen, or damaged badges that control access to BPA facilities. The information collected will help BPA control access to BPA facilities and track identification badges issued under the authority of BPA's Personnel Security office.

DATES: Comments must be received on or before August 24, 2015.

ADDRESSES: Written comments may be submitted by mail to Christopher M. Frost, CGC-7, Bonneville Power Administration, 905 NE 11th Avenue, Portland, Oregon 97232, or by email at IGLM@bpa.gov.

FOR FURTHER INFORMATION CONTACT: Additional information may be requested from Christopher M. Frost at the mailing address above or by email at IGLM@bpa.gov.

SUPPLEMENTARY INFORMATION:

I. Abstract

A recent internal audit of PRA compliance determined that this existing collection does not have an OMB number. BPA is seeking approval for an information collection on lost, stolen, or damaged badges that control access to BPA facilities. This information collection helps BPA control access to BPA facilities and track identification badges issued by BPA's Personnel Security office. The relevant form, Form BPA F 5632.27e, will collect the following information: type of badge (standard, smart card, proximity access), date of report, date lost, stolen or damaged, name and work phone number of reporting contractor or federal employee, and a brief description of either the type of damage or the incident resulting in loss. No third party notification or public disclosure burden is associated with this collection.

II. Request for Comments

BPA requests that you send your comments to the location listed in the ADDRESSES section above. Your comments should address:

(a) The necessity of the information collection for the proper performance of BPA's functions, including whether the information will have practical utility;

(b) The accuracy of our estimate of the burden (hours and costs) of the collection of the information;

(c) Ways we could enhance the quality, utility and clarity of the information to be collected; and

(d) Ways we could minimize the burden of the collection of the information, such as through the use of automated collection techniques or other forms of information technology.

An agency may not conduct or sponsor, and a person is not required to respond to, a collection of information unless it displays a currently valid Office of Management and Budget control number. Comments may be made available to the public, including your address, phone number, and email address. You may request that we withhold your personally identifiable information, but we cannot guarantee that we will be able to do so.

III. Data

OMB Control Number: New

Information Collection Request Title: Badge Replacement Request Form

Type of Request: New

Respondents: BPA employees and contractors seeking replacement ID badges.

Annual Estimated Number of Respondents: 75

Annual Estimated Number of Total Responses: 75

Average Minutes per Response: 10

Annual Estimated Number of Burden Hours: 12.5

Annual Estimated Reporting and Recordkeeping Cost Burden: $0

Issued in Portland, Oregon, on June 12, 2015.
Christopher M. Frost,
Chief Records Officer, FOIA/Privacy Officer, Governance and Internal Controls.

[FR Doc. 2015-15370 Filed 6-22-15; 8:45 am]

BILLING CODE 6450-01-P